ENVIRONMENTAL PROTECTION AGENCY

[FRL-8311-7]

Proposed Settlement Under Section 122(h) of the Comprehensive Environmental Response, Compensation and Liability Act Regarding Regarding the Hilliard's Creek Site, the Route 561 Dump Site, and the U.S. Avenue Burn Site, Gibbsboro, New Jersey

AGENCY: Environmental Protection Agency.

ACTION: Notice of proposed administrative settlement and opportunity for public comment.

SUMMARY: The United States Environmental Protection (“EPA”) is proposing to enter into an administrative settlement to resolve claims under the Comprehensive Environmental Response, Compensation and Liability Act of 1980, as amended (“CERCLA”). In accordance with Section 122(h)(1) of CERCLA, notice is hereby given of a proposed administrative settlement concerning the Hilliard's Creek Site, the Route 561 Dump Site, and the U.S. Avenue Burn Site (collectively referred to as “the Site”). Section 122(h) of CERCLA provides EPA with the authority to consider, compromise and settle certain claims for costs incurred by the United States. Notice is being published to inform the public of the proposed settlement and of the opportunity to comment.

The Site is located in the Borough of Gibbsboro, Camden County, New Jersey. From 1851 to 1978 a paint and varnish manufacturing facility was operational there. As part of its operations, hazardous substances were generated, stored and utilized. The facility included areas used for unloading raw materials from railroad cars, raw materials tank farms including storage tanks constructed prior to 1908, storage areas for drummed raw materials, an industrial/domestic wastewater treatment and disposal system consisting of six unlined percolation/settling lagoons, an extensive system of pipes for the transport of raw materials, and a drum cleaning area. The mixing and processing of raw materials took place in a number of specialized buildings within the facility. In 1978 Sherwin-Williams shut down the production at the Site.

As a result of these operations and a release or threatened release of hazardous substances, EPA has undertaken response actions at or in connection with the Site under Section 104 of CERCLA, 42 U.S.C. 9604.

Under the terms of the Agreement, Sherwin-Williams will pay a total of $385,000 to reimburse EPA for certain response costs incurred at the Site. In exchange, EPA will grant a covenant not to sue or take administrative action against Sherwin-Williams for reimbursement of past response costs pursuant to Section 107(a) of CERCLA. The Attorney General has approved this settlement.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th floor, New York, New York 10007-1866. Telephone: (212) 637-3111.

DATES: Comments must be provided by June 11, 2007.

ADDRESSES: Comments should be sent to the U.S. Environmental Protection Agency, Office, of Regional Counsel, 290 Broadway—17th Floor, New York, NY 10007 and should refer to: In the Matter of the Hilliard's Creek Site, the Route 561 Dump Site, and the U.S. Avenue Burn Site, U.S. EPA Index No. CERCLA-02-2006-2026.

FOR FURTHER INFORMATION CONTACT: U.S. Environmental Protection Agency, Office of Regional Counsel, 290 Broadway—17th Floor, New York, NY 10007, (212) 637-3216.

SUPPLEMENTARY INFORMATION: A copy of the proposed administrative settlement, as well as background information relating to the settlement, may be obtained in person or by mail from Carl R. Howard, U.S. Environmental Protection Agency, Office of Regional Counsel, 290 Broadway—16th Floor, New York, NY 10007. Telephone: (212) 637-3216.

Dated: May 1, 2007.
William McCabe,
Acting Director, Emergency and Remedial Response Division, Region 2.

[FR Doc. E7-9014 Filed 5-9-07; 8:45 am]

BILLING CODE 6560-50-P